DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more individuals that have been placed on OFAC's Specially Designated Nationals and Blocked Persons List (SDN List). OFAC has determined that one or more applicable legal criteria were satisfied to place the individuals on the SDN List. All property and interests in property subject to U.S. jurisdiction of these individuals are blocked, and U.S. persons are generally prohibited from engaging in transactions with them.

DATES: See Supplementary Information section for applicable date(s).

FOR FURTHER INFORMATION CONTACT:

OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (www.treasury.gov/ofac).

Notice of OFAC Action(s)

On December 21, 2020, OFAC determined that the property and interests in property subject to U.S. jurisdiction of the following individuals are blocked under the relevant sanctions authorities listed below.

Individuals:

1. AGUILAR GARCIA, Marvin Ramiro, Altos de Motastepe Casa No 430, Managua, Nicaragua; DOB 10 Jan 1957; POB Chontales, Nicaragua; nationality Nicaragua; Gender Male; Passport A0008313 (Nicaragua) issued 03 Jun 2009 expires 02 Jun 2014 (individual) [NICARAGUA].

Designated pursuant to section 1(a)(iii) of Executive Order 13851 of November 27, 2018, “Blocking Property of Certain Persons Contributing to the Situation in Nicaragua,” 83 FR 61505, (“E.O. 13851”), for being an official of the Government of Nicaragua or having served as an official of the Government of Nicaragua at any time on or after January 10, 2007.

2. GUTIERREZ MERCADO, Walmaro Antonio, KM. 43.5 South Road Panamerican, South Panamerican Highway, Diriamba, Carazo, Nicaragua; DOB 05 May 1968; POB Managua, Nicaragua; nationality Nicaragua; Gender Male; Passport A0007922 (Nicaragua) issued 25 Sep 2007 expires 24 Sep 2012 (individual) [NICARAGUA].

Designated pursuant to section 1(a)(iii) of E.O. 13851 for being an official of the Government of Nicaragua or having served as an official of the Government of Nicaragua at any time on or after January 10, 2007.

3. DOMINGUEZ ALVAREZ, Fidel De Jesus, Altos E San Isidro A15, Managua, Nicaragua; DOB 21 Mar 1963; POB Rivas, Nicaragua; nationality Nicaragua; Gender Male (individual) [NICARAGUA].

Designated pursuant to section 1(a)(iii) of E.O. 13851 for being an official of the Government of Nicaragua or having served as an official of the Government of Nicaragua at any time on or after January 10, 2007.

Dated: December 21, 2020.
Andrea Gacki,
Director, Office of Foreign Assets Control, U.S. Department of the Treasury.

[FR Doc. 2020-28582 Filed 12-23-20; 8:45 am]

BILLING CODE 4810-AL-P